DEPARTMENT OF HOMELAND SECURITY

Federal Emergency Management Agency

[Docket ID FEMA-2021-0001]

Notice of Adjustment of Minimum Project Worksheet Amount

AGENCY: Federal Emergency Management Agency, DHS.

ACTION: Notice.

SUMMARY: FEMA gives notice that the minimum Project Worksheet Amount under the Public Assistance program for disasters and emergencies declared on or after October 1, 2021, will be increased.

DATES: This adjustment applies to major disasters and emergencies declared on or after October 1, 2021.

FOR FURTHER INFORMATION CONTACT: Tod Wells, Recovery Directorate, Federal Emergency Management Agency, 500 C Street SW, Washington, DC 20472, (202) 646-3834.

SUPPLEMENTARY INFORMATION: 44 CFR 206.202(d)(2) provides that FEMA will annually adjust the minimum Project Worksheet amount under the Public Assistance program to reflect changes in the Consumer Price Index for All Urban Consumers published by the Department of Labor.

FEMA gives notice of an increase to $3,500 for the minimum amount that will be approved for any Project Worksheet under the Public Assistance program for all major disasters and emergencies declared on or after October 1, 2021.

FEMA bases the adjustment on an increase in the Consumer Price Index for All Urban Consumers of 5.3 percent for the 12-month period that ended in August 2021. This is based on information released by the Bureau of Labor Statistics at the U.S. Department of Labor on September 14, 2021.

Catalog of Federal Domestic Assistance No. 97.036, Disaster Grants—Public Assistance (Presidentially Declared Disasters).

Deanne Criswell,
Administrator, Federal Emergency Management Agency.

[FR Doc. 2021-25048 Filed 11-16-21; 8:45 am]

BILLING CODE 9111-23-P